DEPARTMENT OF ENERGY

Federal Energy Regulatory Commission

[Docket No. CP20-48-000]

Iroquois Gas Transmission System, L.P.; Notice of Schedule for Environmental Review of the Enhancement by Compression Project

On February 3, 2020, Iroquois Gas Transmission System, L.P. (Iroquois) filed an application in Docket No. CP20-48-000 requesting a Certificate of Public Convenience and Necessity pursuant to Section 7(c) of the Natural Gas Act to construct and operate certain natural gas compression and associated facilities. The proposed project is known as the Enhancement by Compression Project (Project), and would add a total of 125 million cubic feet of natural gas per day of incremental firm transportation service to existing customers in New York.

On February 12, 2020, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA—September 30, 2020

90-Day Federal Authorization Decision Deadline—December 29, 2020

If a schedule change becomes necessary, additional notice will be provided so that the relevant agencies are kept informed of the Project's progress.

Project Description

The Project would add one new 12,000 horsepower (hp) compressor unit and associated facilities at each of its existing Athens (Greene County, New York) and Dover Compressor Stations (Dutchess County, New York) and two new 12,000 hp compressor units at its existing Brookfield Compressor Station (Fairfield County, Connecticut). Iroquois also proposes to add cooling and related equipment at its existing Milford Compressor Station (New Haven County, Connecticut). The Project would add a total of 48,000 hp of new compression on Iroquois' System.

Background

On March 25, 2020, the Commission issued a Notice of Intent to Prepare an Environmental Assessment for the Proposed Enhancement by Compression Project and Request for Comments on Environmental Issues (NOI). The NOI was sent to affected landowners; federal, state, and local government agencies; elected officials; environmental and public interest groups; Native American tribes; other interested parties; and local libraries and newspapers. All substantive comments will be addressed in the EA.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP20-48), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: April 3, 2020.
Kimberly D. Bose,
Secretary.

[FR Doc. 2020-07490 Filed 4-8-20; 8:45 am]

BILLING CODE 6717-01-P